DEPARTMENT OF AGRICULTURE

Food and Nutrition Service

Agency Information Collection Activities: Proposed Collection, Comment Request—Commodity Supplemental Food Program, the Food Distribution Program on Indian Reservations, and the Supplemental Nutrition Assistance Program: Title VI Civil Rights Collection Reports

AGENCY: Food and Nutrition Service, USDA.

ACTION: Notice.

SUMMARY: In accordance with the Paperwork Reduction Act of 1995, this notice invites the general public and other public agencies to comment on a proposed information collection. The collection is a revision of a collection currently approved under OMB No. 0584-0025, Civil Rights Title VI Collection Reports—Forms FNS-191 and FNS-101, for the Commodity Supplemental Food Program, the Food Distribution Program on Indian Reservations, and the Supplemental Nutrition Assistance Program.

DATES: Written comments on this notice must be received by December 16, 2008.

ADDRESSES: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

Comments may be sent to Jane Duffield, Chief, State Administration Branch, Supplemental Nutrition Assistance Program, Food and Nutrition Service, U.S. Department of Agriculture, 3101 Park Center Drive, Room 818, Alexandria, VA 22302. Comments may also be submitted via fax to the attention of Ms. Duffield at 703-605-0795 or via e-mail to PADMAILBOX@fns.usda.gov Comments will also be accepted through the Federal eRulemaking Portal. Go to http://www.regulations.gov. and follow the online instructions for submitting comments electronically.

All written comments will be open for public inspection at the office of the Food and Nutrition Service during regular business hours (8:30 a.m. to 5 p.m. Monday through Friday) at 3101 Park Center Drive, Room 818, Alexandria, Virginia 22302.

All responses to this notice will be summarized and included in the request for Office of Management and Budget (OMB) approval of the information collection. All comments will become a matter of public record.

FOR FURTHER INFORMATION CONTACT: Requests for additional information or copies of this information collection should be directed to Jane Duffield at (703) 605-4365.

SUPPLEMENTARY INFORMATION: Title: Civil Rights Title VI Collection Reports—FNS-191 and FNS-101.

OMB Number: 0584-0025.

Expiration Date: March 2009.

Type of Request: Revision of a currently approved collection.

Abstract: Title VI of the Civil Rights Act of 1964, 42 U.S.C. 2000d to 2000d-7, prohibits discrimination on the basis of race, color, and national origin in programs receiving Federal financial assistance. Department of Justice (DOJ) regulations, 28 CFR 42.406, require all Federal agencies to provide for the collection of racial/ethnic data and information from applicants for and recipients of Federal assistance sufficient to permit effective enforcement of Title VI.

For purposes of the Information Collection Notice only, the Food and Nutrition Service (FNS) employs program terminology in place of the standard Title VI terminology adopted by the U.S. Department of Agriculture (USDA) and codified at 7 CFR 15.2.

Thus, “State agencies,” “local agencies,” and/or “operators” are the program entities responsible for fulfilling the data collection requirements associated with “primary recipients” and/or “recipients” as defined by Title VI. Moreover, the program terms “respondents,” “applicants,” and/or “participants” refer to the “potential beneficiaries,” “applicant beneficiaries,” and/or “actual beneficiaries” of Federal financial assistance as defined by Title VI.

In order to conform with the statutory mandates of Title VI of the Civil Rights Act of 1964, DOJ regulations, and USDA regulations on nondiscrimination in Federally assisted programs, the USDA's Food and Nutrition Service (FNS) requires State agencies to submit data on the racial/ethnic categories of persons receiving benefits from FNS food assistance programs.

In all three programs, State and local agencies collect racial/ethnic information on the benefits application form that applicants may complete and file manually or electronically. The application form must clearly indicate that the information is voluntary and that the race and ethnic information will not affect an applicant's eligibility or level of benefits. It must also state that the reason for the collection of the information is to assure that program benefits are distributed without regard to race, color or national origin. All three programs allow the individual to self-identify his or her racial/ethnic status on the application. Visual observation by a program representative is used to collect the data when the individual does not self-identify. In either case the information is recorded on the application form and entered into the agency's information system. The Federal reporting forms do not identify individual participants.

Local agencies use the two forms referenced above (i.e., the FNS-191 and FNS-101) to report data on the Commodity Supplemental Food Program (CSFP), the Food Distribution Program on Indian Reservations (FDPIR), and the Supplemental Nutrition Assistance Program (SNAP) to FNS as explained below. FNS' data collection requirement for operators is found in the regulations for the CSFP at 7 CFR 247.29(b), and for the SNAP at 7 CFR 272.6(g); the requirement for the FDPIR is found in FNS Handbook 501.

On October 1, 2008, the Supplemental Nutrition Assistance Program (SNAP) became the new name for the Federal Food Stamp Program. This change is mandated under the Food, Conservation and Energy Act of 2008. The new name reflects the program's focus on nutrition and putting healthy food within reach for low-income households. This program name change does not affect the need to continue the information collection for the program.

All State or local agencies must submit the appropriate form in order to receive Federal assistance and comply with applicable legislation. If a State or local agency does not comply voluntarily, the State or local agency is subject to fund termination, suspension, or denial, or to judicial action.

CSFP local agencies complete the FNS-191. FNS requires local agencies to provide annually the actual number and racial/ethnic designations of participants who receive CSFP benefits during the month of April.

SNAP and FDPIR State, local or Tribal agencies complete the FNS-101. FNS requires State, local or Tribal agencies to report annually the actual number and racial/ethnic designation of household contacts who receive FDPIR and/or SNAP benefits in the month of July.

Burden Estimates

Respondents: Local agencies that administer the CSFP, FDPIR, and SNAP.

Number of Respondents: 2,863 (144 for CSFP, 111 for FDPIR, and 2,608 for SNAP).

Estimated Number of Responses per Respondent:

Form FNS-191: 144 local CSFP agencies once a year.

Form FNS-101: 111 local FDPIR agencies and 2,608 local SNAP agencies once a year.

Estimate of Burden:

Form FNS-191: The local CSFP agencies submit Form FNS-191 at an estimate of 1.92 hours per respondent, or 276.48 total hours. There is an additional recordkeeping burden of.08 hours per respondent for maintaining the responses, or 11.52 hours. Total burden is 288 hours.

Form FNS-101: The local FDPIR and SNAP agencies submit Form FNS-101 at an estimate of 1.92 hours per respondent, or 5,220.48 hours. There is an additional burden of.08 hours per respondent for maintaining the responses, or 217.52 hours. Total burden is 5,438 hours.

Estimated Total Annual Burden on Respondents: The revised annual reporting and recordkeeping burden for OMB No. 0584-0025 is estimated to be 5,726 hours, a reduction of 20 hours. The burden reduction is due to the decrease in the number of CSFP, FDPIR, and SNAP agencies that will complete a report.

Dated: October 9, 2008.
Roberto Salazar,
Administrator.

[FR Doc. E8-24784 Filed 10-16-08; 8:45 am]

BILLING CODE 3410-30-P